Title 3—

The President

Proclamation 9318 of September 10, 2015

National Days of Prayer and Remembrance, 2015

By the President of the United States of America

A Proclamation

Fourteen years ago, the peace of a beautiful morning was broken. The events of September 11, 2001, left a permanent mark on the spirit of every American, and our Nation is forever changed. Nearly 3,000 precious lives were taken, and their loved ones were forced to face an unthinkable grief. As we pay tribute to the innocents we lost and the first responders who put themselves in harm's way—some even giving their own lives for their fellow citizens—we also recognize the families whose love abides, and we reaffirm the truth that resonates in the heart of our Nation: that we will never forget that day.

Guided by a steadfast belief in the power of good over evil, people from every corner of our country came together in the aftermath of the attacks to lift each other up and restore our communities. Bound by a common sense of hope, Americans united across faiths and traditions to reject hate and work together toward a better future.

In memory of those we lost, we resolved to shape a world where events like those of September 11, 2001, could never happen again, and we see this unbreakable spirit live on every day across America. We see it in the courage of first responders who carry the memories of fallen partners with them as they continue safeguarding their communities—prepared to make the same sacrifice for us all. We see it in the gleaming New York City Freedom Tower, which rose high where the buildings once fell. We see it in the example of extraordinary bravery set by the men and women who fought back in the Pennsylvania sky. We see it in the legacy of those killed while serving in the Pentagon, which is reflected in the enduring courage of our troops, veterans, and military families. We see it in the selflessness of all those who sacrificed to bring justice to those responsible, and who continue to defend our liberty. And as a result, we will forever march forward as a stronger people, under God and indivisible, toward a brighter day.

As we solemnly reflect on those taken from us too soon by acts of depravity, let us continue to stand with their loved ones and recommit to forging a tomorrow where the sun sets on an America that knows everlasting freedom, security, and peace.

NOW, THEREFORE, I, BARACK OBAMA, President of the United States of America, by virtue of the authority vested in me by the Constitution and the laws of the United States, do hereby proclaim Friday, September 11 through Sunday, September 13, 2015, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this tenth day of September, in the year of our Lord two thousand fifteen, and of the Independence of the United States of America the two hundred and fortieth.

[FR Doc. 2015-23301

Filed 9-14-15; 8:45 am]

Billing code 3295-F5